NUCLEAR REGULATORY COMMISSION

[NRC-2009-0189 and NRC-2010-0047]

Final Interim Staff Guidance Assessing the Radiological Consequences of Accidental Releases of Radioactive Materials From Liquid Waste Tanks for Combined License Applications—DC/COL-ISG-013 and Assessing the Radiological Consequences of Accidental Releases of Radioactive Materials From Liquid Waste Tanks in Ground and Surface Waters for Combined License Applications—DC/COL-ISG-014

AGENCY: Nuclear Regulatory Commission.

ACTION: Notice of availability.

SUMMARY: The U.S. Nuclear Regulatory Commission (NRC) staff is issuing Final Interim Staff Guidance (ISG) DC/COL-ISG-013 and DC/COL-ISG-014. ISG-013 supplements NUREG-0800 Standard Review Plan (SRP) Section 11.2 and Branch Technical Position 11-6 and ISG-014 supplements SRP Sections 2.4.12 and 2.4.13. The purpose of these ISGs is to provide staff guidance for assessing combined license (COL) applicant compliance with acceptance criteria.

DATES: The effective date of the COL-ISGs is February 28, 2013.

ADDRESSES: Please refer to Docket ID NRC-2009-0189 and NRC-2010-0047 when contacting the NRC about the availability of information regarding these documents. You may access information related to these documents, which the NRC possesses and are publicly available by any of the following methods:

• Federal Rulemaking Web site: Go to http://www.regulations.gov and search for Docket ID NRC-2009-0189 and NRC-2010-0047. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

ADAMS accession No. | Document title
ML12191A290 | DC/COL-ISG-013, Assessing the Radiological Consequences of Accidental Releases of Radioactive Materials from Liquid Waste Tanks for Combined License Applications and DC/COL-ISG-014, Assessing the Radiological Consequences of Accidental Releases of Radioactive Materials from Liquid Waste Tanks in Ground and Surface Waters for Combined License Applications (Package).
ML12191A304 | Federal Register notice; Office of New Reactors: DC/COL-ISG-013 and DC/COL-ISG-014, Notice of Availability.
ML12191A325 | Final DC/COL-ISG-013, Assessing the Radiological Consequences of Accidental Releases of Radioactive Materials from Liquid Waste Tanks for Combined License Applications.
ML12191A330 | Final DC/COL-ISG-014, Assessing the Radiological Consequences of Accidental Releases of Radioactive Materials from Liquid Waste Tanks in Ground and Surface Waters for Combined License Applications.
ML12191A346 | Comment Response Document for DC/COL-ISG-013.
ML12191A342 | Comment Response Document for DC/COL-ISG-014.

• NRC's PDR: You may examine and purchase copies of public documents at the NRC's PDR, Room O1-F21, One White Flint North, 11555 Rockville Pike, Rockville, MD 20852.

FOR FURTHER INFORMATION CONTACT: Ms. Amy E. Cubbage, Office of New Reactors, U.S. Nuclear Regulatory Commission, Washington, DC 20555-0001; telephone: 301-415-2875 or by email at: Amy.Cubbage@nrc.gov.

SUPPLEMENTARY INFORMATION:

I. Discussion

In reviewing applications for certified designs and combined licenses under part 52 of Title 10 of the Code of Federal Regulations (10 CFR), the NRC staff found that the March 2007, SRP staff guidance did not provide sufficient guidance to adequately evaluate applicants' approach in modeling the movement of radioactivity and in assessing the radiological impacts following the postulated failure of a tank containing radioactive materials. The two ISGs are being issued simultaneously because they are intended to be used together. ISG-013 addresses the development of the radiological source term contained in the postulated tank failure and mechanism for the radioactivity to reach groundwater or surface water, while ISG-014 focuses on characterizing the hydro-geologic conditions of the site where radioactivity is assumed to enter groundwater or surface water and modeling the movement of the radioactivity to points beyond the site boundary.

II. Background

The staff issues COL-ISGs to facilitate timely implementation of current staff guidance and to facilitate activities associated with review of applications for COL-ISGs by the staff. These ISGs supplement the guidance contained in Regulatory Guide (RG) 1.206, Revision 0, “Combined License Applications for Nuclear Power Plants (LWR Edition).” In addition, these ISGs supplement the guidance provided for staff review of COL applications contained in NUREG-0800, SRP dated March 2007. The NRC staff intends to incorporate these final ISGs into the next revision of RG 1.206 and NUREG-0800. On February 24, 2010 (75 FR 8411 and 75 FR 8412), the staff reopened the comment period for the proposed draft DC/COL-ISG-013, under ADAMS Accession No. ML090830488 and issued the proposed draft DC/COL-ISG-014, under ADAMS Accession No. ML091320560 for public comment. The staff received questions and editorial comments which were considered in the development of the final ISGs. The questions, comments, and staff resolutions of those comments are contained in “DC/COL-ISG-013 Comment Resolution” which can be found under ADAMS Accession No. ML12191A346, and “DC/COL-ISG-014 Comment Resolution” which can be found under ADAMS Accession No. ML12191A342. See NRC's public Web page: (http://www.nrc.gov/reading-rm/doc-collections/isg/).

III. Backfitting and Issue Finality

Issuance of these ISGs does not constitute backfitting as defined in 10 CFR 50.109, nor is it inconsistent with any of the issue finality provisions in 10 CFR Part 52. These ISGs do not contain any new requirements for COL applicants or holders under Part 52, or for licensees of existing operating units licensed under Part 50. Rather, they contain additional guidance and clarification on compliance with 10 CFR 50.34(h) and 10 CFR 52.79(a)(41), and may be used by operating license and COL applicants, respectively, in the preparation of their applications. As explained in the applicability section of each ISG, the ISGs do not apply to holders of nuclear power reactor operating licenses under 10 CFR Part 50 or combined licenses under 10 CFR Part 52 as of the effective date of these ISGs and, for ISG-014, the effective date of revision of SRP Section 2.4.13, and for applicants for nuclear power reactor operating licenses under 10 CFR Part 50 or combined licenses under 10 CFR Part 52 that have committed, in applications docketed with the NRC as of the effective date of this ISG and, for ISG-014, the effective date of revision of SRP Section 2.4.13, to specific guidance in assessing the radiological consequences of a postulated failure of a tank containing radioactive materials.

Congressional Review Act

Each of these ISGs is a rule as designated in the Congressional Review Act (5 U.S.C. 801-808). However, the Office of Management and Budget has not found either one to be a major rule as designated in the Congressional Review Act.

SUPPLEMENTARY INFORMATION: The agency posts its issued staff guidance in the agency external Web page (http://www.nrc.gov/reading-rm/doc-collections/isg/).

Dated at Rockville, Maryland, this 22nd day of January 2013.
For the Nuclear Regulatory Commission.
Amy E. Cubbage,
Chief, Policy Branch, Division of Advanced Reactors and Rulemaking, Office of New Reactors.

[FR Doc. 2013-01834 Filed 1-28-13; 8:45 am]

BILLING CODE 7590-01-P